NUCLEAR REGULATORY COMMISSION

10 CFR Parts 170 and 171

RIN 3150-AH14

Revision of Fee Schedules; Fee Recovery for FY 2003; Correction

AGENCY: Nuclear Regulatory Commission.

ACTION: Final rule: correction.

SUMMARY: This document corrects a final rule appearing in the Federal Register on June 18, 2003 (68 FR 36714) amending the licensing, inspection, and annual fees charged by the NRC to its applicants and licensees. This action is necessary to correct typographical errors and mislabeled fee types in the Schedule of Materials Fees.

EFFECTIVE DATE: August 18, 2003.

FOR FURTHER INFORMATION CONTACT: Ann Norris, telephone 301-415-7807, Office of the Chief Financial Officer, U.S. Nuclear Regulatory Commission, Washington, DC 20555-0001.

SUPPLEMENTARY INFORMATION:

In rule FR Doc. 03-14960 published June 18, 2003 (68 FR 36714) make the following corrections:

1. On page 36716, third column, C. Specific Part 171 Issues, the last sentence of the first paragraph reads “* * * is recovered through annuals fees” and is corrected to read “is recovered through annual fees.”

§170.31 [Corrected]

2. On page 36731, § 170.31, Category 3, Byproduct material, paragraph P is corrected to read “P. All other specific byproduct material licenses, except those in Categories 4A through 9D: Application * * * $1,200.”

3. On page 36731, § 170.31, Category 3, Byproduct material, paragraph Q is corrected to read “Q. Registration of a device(s) generally licensed under part 31 of this chapter: Registration * * * $620.”

§171.16 [Corrected]

4. On pages 36734 and 36735, § 171.16 (c), the header for the second column of the small entity fee table is corrected to read “Maximum annual fee per licensed category.”

Dated at Rockville, Maryland, this 30th day of July, 2003.
For the Nuclear Regulatory Commission.
Alzonia W. Shepard,
Federal Register Liaison Officer.

[FR Doc. 03-19888 Filed 8-5-03; 8:45 am]

BILLING CODE 7590-01-P